COMMITTEE FOR PURCHASE FROM PEOPLE WHO ARE BLIND OR SEVERELY DISABLED

Procurement List: Addition and Deletions

AGENCY: Committee for Purchase From People Who Are Blind or Severely Disabled.

ACTION: Addition to and deletions from the Procurement List.

SUMMARY: This action adds a product to the Procurement List that will be furnished by a nonprofit agency employing persons who are blind or have other severe disabilities, and deletes products from the Procurement List previously furnished by such agencies.

DATES: Effective on September 18, 2016.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION:

Addition

On 7/15/2016 (81 FR 46061-46062), the Committee for Purchase From People Who Are Blind or Severely Disabled published notice of proposed addition to the Procurement List. After consideration of the material presented to it concerning capability of qualified nonprofit agency to provide the product and impact of the addition on the current or most recent contractors, the Committee has determined that the product listed below is suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organization that will furnish the product to the Government.

2. The action will result in authorizing a small entity to furnish the product to the Government.

3. There are no known regulatory alternatives which would accomplish the objectives of the Javits-Wagner-O'Day Act (41 U.S.C. 8501-8506) in connection with the product proposed for addition to the Procurement List.

End of Certification

Accordingly, the following product is added to the Procurement List:

Product

NSN(s)—Product Name(s): MR 343—Handheld Spiralizer

Mandatory Source(s) of Supply: Cincinnati Association for the Blind, Cincinnati, OH

Mandatory Purchase for: The requirements of military commissaries and exchanges in accordance with the Code of Federal Regulations, Chapter 51, 51-6.4.

Contracting Activity: Defense Commissary Agency

Distribution: C-List

Deletions

On 7/15/2016 (81 FR 46061-46062), the Committee for Purchase From People Who Are Blind or Severely Disabled published notice of proposed deletions from the Procurement List. After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 8501-8506) in connection with the products deleted from the Procurement List.

End of Certification

Accordingly, the following products are deleted from the Procurement List:

Products

NSN(s)—Product Name(s):

8410-01-279-7730—Skirt, Gabardine, Lined, Marine Corps, Women's, Blue, 6 Short

8410-01-279-7731—Skirt, Gabardine, Lined, Marine Corps, Women's, Blue, 6R

8410-01-279-7732—Skirt, Gabardine, Lined, Marine Corps, Women's, Blue, 6L

8410-01-279-7733—Skirt, Gabardine, Lined, Marine Corps, Women's, Blue, 8S

8410-01-279-7734—Skirt, Gabardine, Lined, Marine Corps, Women's, Blue, 8R

8410-01-279-7735—Skirt, Gabardine, Lined, Marine Corps, Women's, Blue, 8L

8410-01-279-7736—Skirt, Gabardine, Lined, Marine Corps, Women's, Blue, 10S

8410-01-279-7737—Skirt, Gabardine, Lined, Marine Corps, Women's, Blue, 10R

8410-01-279-7738—Skirt, Gabardine, Lined, Marine Corps, Women's, Blue, 10L

8410-01-279-7739—Skirt, Gabardine, Lined, Marine Corps, Women's, Blue, 12S

8410-01-279-7740—Skirt, Gabardine, Lined, Marine Corps, Women's, Blue, 12R

8410-01-279-7741—Skirt, Gabardine, Lined, Marine Corps, Women's, Blue, 12L

8410-01-279-7742—Skirt, Gabardine, Lined, Marine Corps, Women's, Blue, 14S

8410-01-279-7743—Skirt, Gabardine, Lined, Marine Corps, Women's, Blue, 14R

8410-01-279-7744—Skirt, Gabardine, Lined, Marine Corps, Women's, Blue, 14L

8410-01-279-7745—Skirt, Gabardine, Lined, Marine Corps, Women's, Blue, 16S

8410-01-279-7746—Skirt, Gabardine, Lined, Marine Corps, Women's, Blue, 16R

8410-01-279-7747—Skirt, Gabardine, Lined, Marine Corps, Women's, Blue, 16L

8410-01-279-7748—Skirt, Gabardine, Lined, Marine Corps, Women's, Blue, 18S

8410-01-279-7749—Skirt, Gabardine, Lined, Marine Corps, Women's, Blue, 18R

8410-01-279-7750—Skirt, Gabardine, Lined, Marine Corps, Women's, Blue, 18L

8410-01-279-7751—Skirt, Gabardine, Lined, Marine Corps, Women's, Blue, 20S

8410-01-279-7752—Skirt, Gabardine, Lined, Marine Corps, Women's, Blue, 20R

8410-01-279-7753—Skirt, Gabardine, Lined, Marine Corps, Women's, Blue, 20L

Contracting Activity: Defense Logistics Agency Troop Support

NSN(s)—Product Name(s):

7520-01-385-7362—Pencil, Mechanical, Side Action, Green Barrel, 0.7 mm

7520-01-354-2305—Pencil, Mechanical, Push Action, Red Barrel and Lead, Extra Bold Point (1.1 mm)

Mandatory Source(s) of Supply: San Antonio Lighthouse for the Blind, San Antonio, TX

Contracting Activity: General Services Administration, New York, NY

NSN(s)—Product Name(s):

7510-01-443-2121—Toner, Cartridges, New

7510-00-NIB-0633—Skilcraft Toner Cartridge

7510-00-NIB-0642—Skilcraft Toner Cartridge

Mandatory Source(s) of Supply: Alabama Industries for the Blind, Talladega, AL

Contracting Activity: General Services Administration, New York, NY

NSN(s)—Product Name(s):

7045-01-599-5322—Glare Shield for iPhone

7045-01-599-5271—Glare Shield for Blackberry Bold

7045-01-599-5273—Glare Shield for Blackberry Storm2

7045-01-599-5290—Glare Shield for Blackberry Curve2

7045-01-599-5275—Universal PDA Glare Shield

7045-01-599-5287—Privacy Shield for iPhone

7045-01-599-5276—Privacy Shield for Blackberry Bold

7045-01-599-5278—Privacy Shield for Blackberry Storm2

7045-01-599-5285—Privacy Shield for Blackberry Curve2

7045-01-599-5282—Privacy Shield for PDA, Universal

Mandatory Source(s) of Supply: Wiscraft, Inc., Milwaukee, WI

Contracting Activity: General Services Administration, New York, NY

NSN(s)—Product Name(s):

7110-00-194-1611—Rotary Drafting Stool—Faux Leather

7110-00-281-4469—Rotary Drafting Stool—Upholstered

Contracting Activity: General Services Administration, Philadelphia, PA

NSN(s)—Product Name(s):

7210-00-NIB-0160—Pillow, Medical, White, 26″ x 20″

7210-00-NIB-0161—Pillow, Medical, Blue, 26″ x 20″

7210-00-NIB-0162—Pillow, Bed, Flame Resistant, Pink, 26″ x 20″

Mandatory Source(s) of Supply: Blind Industries & Services of Maryland, Baltimore, MD

Contracting Activity: Department of Veterans Affairs

NSN(s)—Product Name(s):

5970-01-245-7042—Tape, Electrical Insulation, Black, 1″ W x 108 ft

Mandatory Source(s) of Supply: Cincinnati Association for the Blind, Cincinnati, OH

Blind Industries & Services of Maryland, Baltimore, MD

NSN(s)—Product Name(s):

5970-01-560-5355—Tape, Insulation, Electrical, High Voltage, Black, 2″ x 108′

Mandatory Source(s) of Supply: Blind Industries & Services of Maryland, Baltimore, MD

Contracting Activity: Defense Logistics Agency Aviation

Barry S. Lineback,
Director, Business Operations.

[FR Doc. 2016-19842 Filed 8-18-16; 8:45 am]

BILLING CODE 6353-01-P